DEPARTMENT OF ENERGY

Federal Energy Regulatory Commission

[Project No. 1971-079—Idaho]

Idaho Power Company; Notice of Designation of Certain Commission Personnel as Non-Decisional

September 23, 2004.

Commission staff members James Hastreiter (Office of Energy Projects 503-552-2760; james.hastreiter@ferc.gov) and Merrill Hathaway (Office of General Counsel; 202-502-8825; merrill.hathaway@ferc.gov) are assigned to help resolve environmental and other issues associated with development of a settlement agreement for the Hells Canyon Project.

As “non-decisional” staff, Messrs. Hastreiter and Hathaway will not participate in an advisory capacity in the Commission's review of any offer of settlement or settlement agreement, or deliberations concerning the disposition of the relicense application.

Different Commission “advisory staff” are assigned to review any offer of settlement or settlement agreement, and to process the relicense application, including providing advice to the Commission with respect to the agreement and the application. Non-decisional staff and advisory staff are prohibited from communicating with one another concerning the settlement and the relicense application.

Magalie R. Salas,
Secretary.

[FR Doc. E4-2427 Filed 9-29-04; 8:45 am]

BILLING CODE 6717-01-P